DEPARTMENT OF HEALTH AND HUMAN SERVICES

Centers for Medicare & Medicaid Services

[CMS-2388-N]

RIN 0938-AR79

Children's Health Insurance Program (CHIP); Final Allotments to States, the District of Columbia, and U.S. Territories and Commonwealths for Fiscal Year 2013

AGENCY: Centers for Medicare & Medicaid Services (CMS), HHS.

ACTION: Notice.

SUMMARY: This notice sets forth the final allotments of federal funding available to each State, the District of Columbia, and each U.S. Territory and Commonwealth for fiscal year 2013. Title XXI of the Social Security Act (the Act) authorizes payment of federal matching funds to States, the District of Columbia, and the U.S. Territories and Commonwealths to initiate and expand health insurance coverage to uninsured, low-income children under the Children's Health Insurance Program (CHIP). The fiscal year allotments contained in this notice were determined in accordance with the funding provisions and final regulations published in the February 17, 2011 Federal Register (76 FR 9233).

DATES: This notice is effective on August 26, 2013. Final allotments for fiscal year 2013 may be available for expenditure by states beginning with October 1, 2012.

FOR FURTHER INFORMATION CONTACT: Richard Strauss, (410) 786-2019.

SUPPLEMENTARY INFORMATION:

I. Purpose of This Notice

This notice sets forth the allotments available to each state, the District of Columbia, and each U.S. Territory and Commonwealth for fiscal year (FY) 2013 under title XXI of the Social Security Act (the Act). States may implement the Children's Health Insurance Program (CHIP) through a separate state program under title XXI of the Act, an expansion of a State Medicaid program under title XIX of the Act, or a combination of both. CHIP allotments for FY 2009 and subsequent fiscal years are available to match expenditures under an approved state child health plan for 2 fiscal years, including the year for which the allotments were provided. As specified by the Act, the allotments are available to states for FY 2013, and the unexpended amounts of such allotments for a state may be carried over to FY 2014 for use by the state. Federal funds appropriated for title XXI of the Act are limited, and the law specifies a methodology to divide the total fiscal year appropriation into individual allotments available for each state, the District of Columbia, and each U.S. Territory and Commonwealth with an approved child health plan.

Section 2104(b) of the Act requires states, the District of Columbia, and U.S. Territories and Commonwealths to have an approved child health plan for the fiscal year in order for the Secretary to provide an allotment for that fiscal year. All states, the District of Columbia, and U.S. Territories and Commonwealths have approved plans for FY 2013. Therefore, the FY 2013 allotments contained in this notice pertain to all states, the District of Columbia, and U.S. Territories and Commonwealths.

In general, funding is appropriated under section 2104(a) of the Act for purposes of providing allotments to states under CHIP for each fiscal year. Section 2104(a) was amended by section 10203(d)(1) of the Patient Protection and Affordable Care Act of 2010 (Pub. L. 111-148, enacted on March 23, 2010) (the Affordable Care Act) to extend appropriations for funding for CHIP fiscal year allotments through FY 2015.

II. Methodology for Determining CHIP Fiscal Year Allotments for the 50 States, the District of Columbia, and the U.S. Territories and Commonwealths

A. Funding Authority for the CHIP Fiscal Year Allotments

Section 2104(a)(1) through (18) of the Act appropriates federal funds for providing states' allotments for FYs 2009 through 2015. In particular, the appropriated amounts available for allotments for FYs 2009 through 2015, are as follows: $10,562,000,000 for FY 2009; 12,520,000,000 for FY 2010; $13,459,000,000 for FY 2011; $14,982,000,000 for FY 2012; $17,406,000,000 for FY 2013, $19,147,000,000 for FY 2014; and $2,850,000,000 for each of the first and second half of FY 2015. Also, section 108 of the Children's Health Insurance Program Reauthorization Act of 2009 (Pub. L. 111-3, enacted on February 4, 2009) (CHIPRA), as amended by section 10203(d) of the Affordable Care Act, provides for a one-time appropriation of $15,361,000,000 for allotments for the first half of FY 2015. Therefore, the total appropriation for providing allotments during FY 2015 is $21,061,000,000 (determined as the sum of $2,850,000,000, $15,361,000,000, and $2,850,000,000).

B. Methodology for Determining State's Fiscal Year Allotments

1. General

On September 16, 2009 we published a proposed rule in the Federal Register (74 FR 47517) and on February 17, 2011, we published the final rule in the Federal Register (76 FR 9233) to implement the methodologies and procedures to determine the fiscal year allotments of federal funds as specified under section 2104(m) of the Act for FY 2009 through FY 2015. In general, the States' fiscal year allotments are provided from the appropriation for the respective fiscal year allotment, subject to a proration adjustment described in section II.B.7 of this notice.

2. FY 2009 Through FY 2012 CHIP Allotments

The final methodology is determined in accordance with the September 16, 2009 Federal Register (74 FR 47517) which contained the FY 2009 CHIP allotments, the February 17, 2011 Federal Register (76 FR 9233) which contained the FY 2010 and FY 2011 CHIP allotments, and the July 24, 2012 Federal Register (77 FR 43290) which contained the FY 2012 CHIP allotments.

3. FY 2013 Allotments

The FY 2013 allotments for the 50 States and the District of Columbia, and the Commonwealths and Territories, are provided from the FY 2013 appropriation ($17,406,000,000). The amounts of these allotments are subject to a proration adjustment described in section II.B.7 of this notice, if necessary. Section 2104(m)(2)(B)(i) of the Act, as amended by the Affordable Care Act, requires a “rebasing” process be used for determining the FY 2013 allotments; the rebasing methodology means the states' payments rather than their allotments for FY 2012 must be considered in calculating the FY 2013 allotments. In particular, the FY 2013 allotments are determined by multiplying the allotment increase factor for FY 2013 for the state by the sum of: any federal payments made from the states' available allotments in FY 2012; any amounts provided as redistributed allotments in FY 2012 to the state; and any federal payments attributable to any contingency fund payments made to the State for FY 2012 determined under section 2104(n) of the Act.

4. FY 2014 Allotments

The FY 2014 allotments for the 50 States and the District of Columbia, and the Commonwealths and Territories, are provided from the FY 2014 appropriation of $19,147,000,000, and are subject to a proration adjustment described in section II.B.7 of this notice, if necessary. Under section 2104(m)(2)(B)(ii) of the Act, as amended by the Affordable Care Act, the FY 2014 allotment for each State is determined by multiplying the allotment increase factor for FY 2014 for the state, by the sum of: the state's FY 2013 allotment; and any contingency fund payment made to the state for FY 2013, as determined in section 2104(n) of the Act.

For the 50 States and the District of Columbia, under section 2104(m)(6) of the Act, the FY 2014 allotment may include additional amounts in situations where such states have submitted an expansion allotment adjustment request before August 31, 2013.

5. FY 2015 Allotments

Under section 2104(m)(3) of the Act, the FY 2015 allotments for the 50 states and the District of Columbia, and the Commonwealths and Territories, are comprised of 2 components related to the first half of FY 2015 (that is, the period of October 1, 2014 through March 31, 2015) and second half of FY 2015 (that is, April 1, 2015 through September 30, 2015). The FY 2015 allotments for the first and second half of FY 2015 are subject to a proration adjustment described in section II.B.7 of this notice, as necessary.

The allotments for the first half of FY 2015 are provided from a total available appropriation of $18,211,000,000, comprised of $2,850,000,000 appropriated under section 2104(a)(18)(A) of the Act, and $15,361,000,000 appropriated by section 108 of CHIPRA, as amended by the Affordable Care Act. The allotments for the first half of FY 2015 are equal to the “first half ratio” multiplied by the allotment increase factor for FY 2015 multiplied by the sum of any federal payments made from the States' available allotments in FY 2014; any amounts provided as redistributed allotments in FY 2014 to the state; and any federal payments attributable to any contingency fund payments made to the State for FY 2014 as determined under section 2104(n) of the Act. The first half ratio is the percentage determined by dividing $18,211,000,000 (calculated as the sum of $2,850,000,000 (the appropriation for the first half of FY 2015) and 15,361,000,000 (the one-time appropriation for the first half of the FY 2015)) by $21,061,000,000 (calculated as the sum of $2,850,000,000(the appropriation for the second half of FY 2015) and $18,211,000,000).

The states' CHIP allotments for the second half of FY 2015 are provided from a total available appropriation of $2,850,000,000, appropriated under section 2104(a)(18)(B) of the Act. The allotments for the second half of FY 2015 are equal to $2,850,000,000 multiplied by a percentage equal to the amount of the allotment for the state for the first half of FY 2015 divided by the sum of all such first half of FY 2015 allotments for all States.

6. Proration Rule

Under section 2104(m)(4) of the Act, if the amount of States' (including the 50 States, the District of Columbia, and the Commonwealths and Territories) allotments for a fiscal year, or in the case of FY 2015, the amount of an allotment for each half of the fiscal year, exceeds the total appropriations available for such periods, the total allotments for each of these periods will be reduced on a proportional basis. The total amount available nationally for the period is multiplied by a proration percentage determined by dividing the amount determined for the period by the sum of such amounts.

7. The Allotment Increase Factor For A Fiscal Year

Under section 2104(m)(5) of the Act, the allotment increase factor for a fiscal year is equal to the product of 2 amounts for the fiscal year: the per capita health care growth factor and the child population growth factor.

The per capita health care growth factor for a fiscal year is equal to 1 plus the percentage increase in the projected per capita amount of the National Health Expenditures from the calendar year in which the previous fiscal year ends to the calendar year in which the fiscal year involved ends, as most recently published by CMS before the beginning of the fiscal year involved.

In general, for the 50 States and the District of Columbia, the Child Population Growth Factor (CPGF) for a fiscal year is equal to 1 plus the percentage increase (if any, expressed in decimal format) in the population of children in the State from July 1 in the previous fiscal year to July 1 in the fiscal year involved, as determined by CMS based on the most recent published estimates of the Census Bureau available before the beginning of the fiscal year involved, plus 1 percentage point (expressed as 0.01). In the determination of the CPGF, section 2104(m)(5)(B) of the Act refers to “the percentage increase (if any)” of the population of children in the State. In this regard, the CPGF refers only to increases in the population of children. Thus, if there was a decrease in the population of children over the indicated period, the CPGF for such State would be1 plus 0.0 percent plus 1 percentage point; that is, negative growth in the children population would not result in the growth factor being less than 101 percent (expressed as 1.01).

8. Allotments for the Commonwealths And Territories

Section 2104(m)(1)(B) of the Act provided for 2009 allotments for the commonwealths and territories based upon the highest amount available for any fiscal year from 1999 through 2008, multiplied by the allotment increase factor with the term “United States” substituted for the term “the State” (so that the increase for the commonwealths and territories will be based on the CPFG rate for the entire country rather than specific to the commonwealth or territory). For fiscal years after FY 2009, the CHIP allotment for the commonwealths and territories is determined using the same methodology described above for the 50 States and District of Columbia. The 2009 change to the allotment increase factor does not apply, and thus we will determine a commonwealth or territory-specific allotment increase factor, based on the CPFG for each commonwealth or territory, based on the most recent published estimates of the Census Bureau.

C. FY 2013 Allotments Determined in Accordance With Such Methodologies and Procedures.

We calculated the FY 2013 allotments as discussed in section II.B.4 of this notice and in accordance with section 2104(m) of the Act and final regulations at 42 CFR 457.609 (published in the February 17, 2011 Federal Register. That calculation is presented in 2 tables described in section III of this notice. Table 1 provides the calculation of the allotment increase factor for FY 2013, and Table 2 provides the calculation of the FY 2013 allotment.

III. Tables

Following are the keys and associated tables for the CHIP funding provisions as discussed in previous sections (note that for purposes of presentation and due to rounding, not all numbers following decimals are shown in the following tables):

Table 1—Allotment Increase Factor for FY 2013

Table 2—Children's Health Insurance Program Allotments for FY 2013

A. Table 1—Allotment Increase Factor For FY 2013

Key to Table 1

Column/Description

Column A = State. Column A contains the name of the State, District of Columbia, U.S. Commonwealth or Territory.

Column B = PCNHE 2012, PCNHE 2013, PCHCG Factor. Column B contains the calculation of the Per Capita Health Care Growth (PCHCG) Factor for FY 2013, determined as 1 plus the percentage increase in the Per Capita National Health Expenditures (PCNHE) (source: Centers for Medicare & Medicaid Services, Office of the Actuary) from calendar year 2012 to calendar year 2013.

Columns C through F = Calculation of the Child Population Growth Factor (CPGF) for FY 2013:

Column C = July 1, 2012 Child Population. Column C contains the population of children in each state or the United States as of July 1, 2012, as provided by the most recent published data of the Census Bureau before the beginning of FY 2013.

Column D = July 1, 2013 Child Population. Column D contains the population of children in each state or the United States as of July 1, 2013, as provided by the most recent published data of the Census Bureau before the beginning of FY 2013.

Column E = Percent Increase 2012—2013. Column E contains the percentage increase, if any, of the population of children in each state, or the United States, from July 1, 2012 to July 1, 2013, calculated as the difference between the number in Column D minus the number in Column C divided by the number in Column C.

Column F = FY 2013 Child Population Growth Factor. Column F contains the Child Population Growth Factor (CPGF) for each state, determined as 1.01 plus the percent in Column E for the State.

Column G = FY 2013 Allotment Increase Factor. Column G contains the FY 2013 Allotment Increase Factor, calculated as the PCHCG factor in Column B multiplied by the CPGF percent in Column F.

Table 1—Allotment Increase Factor for FY 2013
State | PCNHE 2012-$8,953 PCNHE 2013—$9,214 PCHCG factor *—1.0292 | Child population growth factor (CPGF) for FY 2013: July 1, 2012 population | Child population growth factor (CPGF) for FY 2013: July 1, 2013 population | Child population growth factor (CPGF) for FY 2013: Percent increase 2012-2013 (D-C)/C | Child population growth factor (CPGF) for FY 2013: FY 2013 CPGF Col E + 1.01 | FY 2013 Allotment increase factor Col B × F
A | B | C | D | E | F | G
Alabama | 1.0292 | 1,190,177 | 1,185,745 | 0.00 | 101.00 | 1.0394
Alaska | 1.0292 | 197,821 | 197,483 | 0.00 | 101.00 | 1.0394
Arizona | 1.0292 | 1,709,881 | 1,704,721 | 0.00 | 101.00 | 1.0394
Arkansas | 1.0292 | 748,748 | 748,686 | 0.00 | 101.00 | 1.0394
California | 1.0292 | 9,802,326 | 9,781,108 | 0.00 | 101.00 | 1.0394
Colorado | 1.0292 | 1,305,223 | 1,311,232 | 0.46 | 101.46 | 1.0442
Connecticut | 1.0292 | 845,091 | 833,027 | 0.00 | 101.00 | 1.0394
Delaware | 1.0292 | 217,092 | 216,511 | 0.00 | 101.00 | 1.0394
District of Columbia | 1.0292 | 118,912 | 122,540 | 3.05 | 104.05 | 1.0708
Florida | 1.0292 | 4,231,207 | 4,228,907 | 0.00 | 101.00 | 1.0394
Georgia | 1.0292 | 2,634,887 | 2,639,023 | 0.16 | 101.16 | 1.0411
Hawaii | 1.0292 | 320,876 | 321,411 | 0.17 | 101.17 | 1.0412
Idaho | 1.0292 | 451,195 | 450,659 | 0.00 | 101.00 | 1.0394
Illinois | 1.0292 | 3,252,752 | 3,227,501 | 0.00 | 101.00 | 1.0394
Indiana | 1.0292 | 1,679,592 | 1,672,236 | 0.00 | 101.00 | 1.0394
Iowa | 1.0292 | 765,073 | 762,718 | 0.00 | 101.00 | 1.0394
Kansas | 1.0292 | 762,720 | 761,315 | 0.00 | 101.00 | 1.0394
Kentucky | 1.0292 | 1,077,372 | 1,075,953 | 0.00 | 101.00 | 1.0394
Louisiana | 1.0292 | 1,183,059 | 1,184,741 | 0.14 | 101.14 | 1.0409
Maine | 1.0292 | 283,150 | 279,480 | 0.00 | 101.00 | 1.0394
Maryland | 1.0292 | 1,425,777 | 1,422,901 | 0.00 | 101.00 | 1.0394
Massachusetts | 1.0292 | 1,493,331 | 1,483,033 | 0.00 | 101.00 | 1.0394
Michigan | 1.0292 | 2,407,389 | 2,374,494 | 0.00 | 101.00 | 1.0394
Minnesota | 1.0292 | 1,346,832 | 1,343,206 | 0.00 | 101.00 | 1.0394
Mississippi | 1.0292 | 790,318 | 787,474 | 0.00 | 101.00 | 1.0394
Missouri | 1.0292 | 1,482,863 | 1,472,896 | 0.00 | 101.00 | 1.0394
Montana | 1.0292 | 235,024 | 234,574 | 0.00 | 101.00 | 1.0394
Nebraska | 1.0292 | 487,198 | 488,415 | 0.25 | 101.25 | 1.0420
Nevada | 1.0292 | 697,086 | 696,921 | 0.00 | 101.00 | 1.0394
New Hampshire | 1.0292 | 293,783 | 288,459 | 0.00 | 101.00 | 1.0394
New Jersey | 1.0292 | 2,142,311 | 2,124,544 | 0.00 | 101.00 | 1.0394
New Mexico | 1.0292 | 549,684 | 551,522 | 0.33 | 101.33 | 1.0429
New York | 1.0292 | 4,533,608 | 4,506,651 | 0.00 | 101.00 | 1.0394
North Carolina | 1.0292 | 2,427,545 | 2,433,066 | 0.23 | 101.23 | 1.0418
North Dakota | 1.0292 | 162,495 | 163,927 | 0.88 | 101.88 | 1.0485
Ohio | 1.0292 | 2,825,825 | 2,801,252 | 0.00 | 101.00 | 1.0394
Oklahoma | 1.0292 | 994,142 | 1,000,112 | 0.60 | 101.60 | 1.0456
Oregon | 1.0292 | 913,230 | 912,653 | 0.00 | 101.00 | 1.0394
Pennsylvania | 1.0292 | 2,921,487 | 2,898,558 | 0.00 | 101.00 | 1.0394
Rhode Island | 1.0292 | 233,902 | 230,480 | 0.00 | 101.00 | 1.0394
South Carolina | 1.0292 | 1,148,077 | 1,150,117 | 0.18 | 101.18 | 1.0413
South Dakota | 1.0292 | 214,867 | 215,447 | 0.27 | 101.27 | 1.0422
Tennessee | 1.0292 | 1,574,981 | 1,572,746 | 0.00 | 101.00 | 1.0394
Texas | 1.0292 | 7,408,497 | 7,484,215 | 1.02 | 102.02 | 1.0500
Utah | 1.0292 | 933,382 | 941,395 | 0.86 | 101.86 | 1.0483
Vermont | 1.0292 | 133,891 | 131,547 | 0.00 | 101.00 | 1.0394
Virginia | 1.0292 | 1,966,500 | 1,967,568 | 0.05 | 101.05 | 1.0400
Washington | 1.0292 | 1,674,524 | 1,679,579 | 0.30 | 101.30 | 1.0426
West Virginia | 1.0292 | 406,890 | 405,501 | 0.00 | 101.00 | 1.0394
Wisconsin | 1.0292 | 1,396,702 | 1,387,539 | 0.00 | 101.00 | 1.0394
Wyoming | 1.0292 | 142,250 | 142,106 | 0.00 | 101.00 | 1.0394
Total States | 1.0292 | 78,141,545 | 77,997,895 | 0.00 | 101.00 | 1.0394
American Samoa | 1.0292 | 19,210 | 18,198 | 0.00 | 101.00 | 1.0394
Guam | 1.0292 | 54,032 | 53,490 | 0.00 | 101.00 | 1.0394
Northern Mariana Islands | 1.0292 | 16,469 | 16,227 | 0.00 | 101.00 | 1.0394
Puerto Rico | 1.0292 | 910,852 | 889,582 | 0.00 | 101.00 | 1.0394
Virgin Islands | 1.0292 | 24,590 | 23,763 | 0.00 | 101.00 | 1.0394
Total Territories | 1.0292 | 1,025,153 | 1,001,260 | 0.00 | 101.00 | 1.0394
Total States/Territories | 1.0292 | 79,166,698 | 78,999,155 | 0.00 | 101.00 | 1.0394
Footnotes:
* Calculated as 1 + (($9,214-$8,953)/$8,953); $8,953 is per capita NHE for 2012 and $9,214 is per capita NHE for 2013.
PCHCG FACTOR is “Per Capita Health Care Growth Factor“.

B. Table 2—Children's Health Insurance Program Allotment for FY 2013

Key to Table 2

Column/Description

Column A = State. Column A contains the name of the state, District of Columbia, U.S. Commonwealth or Territory.

Column B = FY 2012 FS Expenditures Applied Against Allotments. Column B contains the amount of federal share (FS) payments to the state that were attributable and countable towards the allotments available to the state in FY 2012. These amounts were based on the States' submissions of the 4 quarterly FY 2012 expenditure reports.

Column C = FY 2012 Contingency Fund Payments. Column C contains the amounts of any contingency funds payments made to a State for FY 2012 determined in accordance with the provisions of section 2104(n) of the Act.

Column D = FY 2012 FS Expenditures Applied Against Redistributions. Column D contains the total amount of federal payments redistributed to the state in FY 2012 determined in in accordance with the provisions of section 2104(f) of the Act.

Column E = FY 2012 Total FS Expenditures. Column E contains the total amount of the FY 2012 federal payments to the state determined as the sum of the amounts in Columns B, C, and D.

Column F = FY 2013 Allotment Increase Factor. Column F contains the Allotment Increase Factor for FY 2013 for each state as contained in Column G of Table 1.

Column G = FY 2013 CHIP Allotment. Column G contains the product of the total FY 2012 federal share expenditures in Column E and the amount of the FY 2013 Allotment Increase Factor in Column F. This amount represents the FY 2013 CHIP allotment.

Table 2—Children's Health Insurance Proram Allotments for FY 2013
State | FY 2012: FS expenditures applied against allotments/1 | FY 2012: Contingency fund payments | FY 2012: FS expenditures applied against redistributions | FY 2012: Total FS expenditures Col B + C + D | FY 2013: Allotment increase factor | FY 2013: CHIP allotment Col E × F
A | B | C | D | E | F | G
Alabama | $156,666,630 | $0 | $0 | $156,666,630 | 1.0394 | $162,846,151
Alaska | 19,777,701 | 0 | 0 | 19,777,701 | 1.0394 | 20,557,808
Arizona | 24,428,316 | 0 | 0 | 24,428,316 | 1.0394 | 25,391,861
Arkansas | 99,204,579 | 0 | 0 | 99,204,579 | 1.0394 | 103,117,581
California | 1,246,835,487 | 0 | 0 | 1,246,835,487 | 1.0394 | 1,296,015,369
Colorado | 126,262,430 | 0 | 0 | 126,262,430 | 1.0442 | 131,840,929
Connecticut | 39,760,103 | 0 | 0 | 39,760,103 | 1.0394 | 41,328,391
Delaware | 15,141,183 | 0 | 0 | 15,141,183 | 1.0394 | 15,738,408
District of Columbia | 13,883,678 | 0 | 0 | 13,883,678 | 1.0708 | 14,867,242
Florida | 345,422,131 | 0 | 0 | 345,422,131 | 1.0394 | 359,046,879
Georgia | 271,558,901 | 0 | 0 | 271,558,901 | 1.0411 | 282,708,900
Hawaii | 24,789,079 | 0 | 0 | 24,789,079 | 1.0412 | 25,809,390
Idaho | 34,592,745 | 0 | 0 | 34,592,745 | 1.0394 | 35,957,213
Illinois | 265,108,645 | 0 | 0 | 265,108,645 | 1.0394 | 275,565,527
Indiana | 139,361,391 | 0 | 0 | 139,361,391 | 1.0394 | 144,858,329
Iowa | 88,986,083 | 0 | 0 | 88,986,083 | 1.0394 | 92,496,029
Kansas | 53,296,813 | 0 | 0 | 53,296,813 | 1.0394 | 55,399,040
Kentucky | 142,273,872 | 0 | 0 | 142,273,872 | 1.0394 | 147,885,689
Louisiana | 165,120,888 | 0 | 0 | 165,120,888 | 1.0409 | 171,875,479
Maine | 30,284,258 | 0 | 0 | 30,284,258 | 1.0394 | 31,478,783
Maryland | 154,385,062 | 0 | 0 | 154,385,062 | 1.0394 | 160,474,590
Massachusetts /2 | 318,320,572 | 0 | 0 | 318,320,572 | 1.0394 | 330,876,333
Michigan | 52,717,514 | 0 | 0 | 52,717,514 | 1.0394 | 54,796,891
Minnesota | 30,864,280 | 0 | 0 | 30,864,280 | 1.0394 | 32,081,683
Mississippi | 170,165,124 | 0 | 0 | 170,165,124 | 1.0394 | 176,877,077
Missouri | 118,282,444 | 0 | 0 | 118,282,444 | 1.0394 | 122,947,949
Montana | 57,136,546 | 0 | 0 | 57,136,546 | 1.0394 | 59,390,226
Nebraska | 40,751,950 | 0 | 0 | 40,751,950 | 1.0420 | 42,464,124
Nevada | 30,260,365 | 0 | 0 | 30,260,365 | 1.0394 | 31,453,948
New Hampshire | 17,504,890 | 0 | 0 | 17,504,890 | 1.0394 | 18,195,349
New Jersey | 615,891,341 | 0 | 0 | 615,891,341 | 1.0394 | 640,184,412
New Mexico | 119,117,210 | 0 | 0 | 119,117,210 | 1.0429 | 124,225,549
New York | 557,751,171 | 0 | 0 | 557,751,171 | 1.0394 | 579,750,975
North Carolina | 291,999,510 | 0 | 0 | 291,999,510 | 1.0418 | 304,200,528
North Dakota | 16,510,403 | 0 | 0 | 16,510,403 | 1.0485 | 17,311,376
Ohio | 323,299,011 | 0 | 0 | 323,299,011 | 1.0394 | 336,051,140
Oklahoma | 109,210,015 | 0 | 0 | 109,210,015 | 1.0456 | 114,192,613
Oregon | 138,435,048 | 0 | 0 | 138,435,048 | 1.0394 | 143,895,447
Pennsylvania | 294,116,617 | 0 | 0 | 294,116,617 | 1.0394 | 305,717,683
Rhode Island | 38,007,530 | 0 | 0 | 38,007,530 | 1.0394 | 39,506,690
South Carolina | 94,387,784 | 0 | 0 | 94,387,784 | 1.0413 | 98,283,399
South Dakota | 18,650,766 | 0 | 0 | 18,650,766 | 1.0422 | 19,438,235
Tennessee | 192,636,297 | 0 | 0 | 192,636,297 | 1.0394 | 200,234,597
Texas | 849,095,131 | 0 | 0 | 849,095,131 | 1.0500 | 891,517,738
Utah | 59,616,038 | 0 | 0 | 59,616,038 | 1.0483 | 62,494,237
Vermont | 12,542,134 | 0 | 0 | 12,542,134 | 1.0394 | 13,036,843
Virginia | 179,399,135 | 0 | 0 | 179,399,135 | 1.0400 | 186,575,583
Washington | 92,985,481 | 0 | 0 | 92,985,481 | 1.0426 | 96,942,063
West Virginia | 46,443,775 | 0 | 0 | 46,443,775 | 1.0394 | 48,275,692
Wisconsin | 99,094,456 | 0 | 0 | 99,094,456 | 1.0394 | 103,003,114
Wyoming | 10,355,354 | 0 | 0 | 10,355,354 | 1.0394 | 10,763,808
States/DC Total | 8,452,687,867 | 0 | 0 | 8,452,687,867 |  | 8,799,944,890
Commonwealths and Territories
American Samoa | 1,252,669 | 0 | 0 | 1,252,669 | 1.0394 | 1,302,079
Guam | 4,359,910 | 0 | 0 | 4,359,910 | 1.0394 | 4,531,881
N. Mariana Islands | 898,682 | 0 | 0 | 898,682 | 1.0394 | 934,129
Puerto Rico | 103,910,799 | 0 | 23,714,630 | 127,625,429 | 1.0394 | 132,659,456
Virgin Islands | 0 | 0 | 0 | 0 | 1.0394 | 0
Total | 110,422,060 | 0 | 23,714,630 | 134,136,690 |  | 139,427,545
National Total | 8,563,109,927 | 0 | 23,714,630 | 8,586,824,557 |  | 8,939,372,435
Footnotes:
/1 Final CHIP Allotments for FY 2013 based on reported expenditures for quarters 1 through 4 of FY 2012.
/2 MA expenditures adjusted to only include amounts claimed on FY 2012 expenditure reports up to FY 2012 ten percent limit.

IV. Collection of Information Requirements

This document does not impose any information collection or recordkeeping requirements. Consequently, it is not subject to Office of Management and Budget review under the authority of the Paperwork Reduction Act of 1995 (44 U.S.C. 3501 et seq.).

Authority: (Section 1102 of the Social Security Act (42 U.S.C. 1302))

(Catalog of Federal Domestic Assistance Program No. 93.778, Medical Assistance Program)

(Catalog of Federal Domestic Assistance Program No. 93.767, State Children's Health Insurance Program))

Dated: May 15, 2013.
Marilyn Tavenner,
Administrator, Centers for Medicare & Medicaid Services.
Dated: June 28, 2013.
Kathleen Sebelius,
Secretary. Department of Health and Human Services.

[FR Doc. 2013-17966 Filed 7-25-13; 8:45 am]

BILLING CODE 4120-01-P